DEPARTMENT OF LABOR

Occupational Safety and Health Administration

OSHA Training Institute (OTI) Education Center; Notice of Competition and Request for Applications

AGENCY: Occupational Safety and Health Administration (OSHA), Labor.

ACTION: Notice of competition and request for applications for the OSHA Training Institute Education Centers Program.

SUMMARY: This notice announces the opportunity for interested non-profit organizations, including qualifying educational institutions, trade associations, labor unions, and community-based and faith-based organizations that are not an agency of a state or local government to submit applications to become an OSHA Training Institute Education Center and deliver standard classroom instruction on a regional basis. State or local government-supported institutions of higher education are eligible to apply. Eligible organizations can apply independently or in partnership with other eligible organizations, but in such a case, a lead organization must be identified along with a list of any consortium partners. Current OSHA-authorized OSHA Training Institute Education Centers required to renew their status must submit a new application in order to maintain their OSHA Training Institute Education Center status. If the corporate identity of an applicant, or its membership have changed, the new entity must submit an application. Applications will only be accepted during the solicitation period and will be rated on a competitive basis. Complete application instructions are contained in this notice.

This notice also contains information on a proposal conference designed to provide potential applicants with information about the OSHA Training Institute Education Centers Program. The conference will clarify OSHA expectations for OSHA Training Institute Education Centers, courses and methods of instruction, as well as administrative and program requirements for OSHA Training Institute Education Centers and the OSHA Outreach Training Program. Applicants are strongly encouraged to attend the proposal conference.

OSHA will enter into five-year, non-financial cooperative agreements with successful applicants. These authorization agreements are intended solely to facilitate the ongoing monitoring and evaluation of safety training provided by authorized OSHA Training Institute Education Centers. These cooperative agreements will not constitute a grant or financial assistance instrument, and OSHA will provide no compensation to authorized OSHA Training Institute Education Centers. Such non-financial cooperative agreements are renewable, at the Government's sole option, for one five-year period, if the organization has performed satisfactorily during the initial term.

DATES: Applications (three copies) must be received no later than 4:30 p.m. Central Time on June 30, 2017. Requests for extension of this application deadline will not be granted.

A proposal conference will be held on May 17, 2017, at the OSHA Directorate of Training and Education, 2020 South Arlington Heights Rd., Arlington Heights, Illinois 60005-4102. Attendees are required to pre-register for this conference. Specific details are discussed in the Proposal Conference section of this notice.

ADDRESSES: Submit applications (three copies) to the OSHA Directorate of Training and Education, Office of Training Programs and Administration, Attn: James Brock, 2020 South Arlington Heights Rd., Arlington Heights, Illinois 60005-4102.

Applicants selected to be OSHA Training Institute Education Centers must attend a mandatory orientation meeting to be held at the OSHA Directorate of Training and Education, 2020 South Arlington Heights Rd., Arlington Heights, Illinois 60005-4102 at a time and date to be determined.

FOR FURTHER INFORMATION CONTACT: Any questions regarding this opportunity should be directed to: James Brock, OSHA Training Institute Education Centers Program Manager, email address brock.james.e@dol.gov, or Annette Braam, Assistant Director, Training Programs, OSHA Directorate of Training and Education, email address braam.annette@dol.gov. Both can be reached at: (847) 759-7700.

SUPPLEMENTARY INFORMATION: The supplementary information contains details concerning the following:

• Background Information

Overview of the OSHA Directorate of Training and Education (DTE)

Overview of the OSHA Training Institute (OTI)

Overview of the OTI Education Centers Program

Overview of the OSHA Outreach Training Program

• Organizational Responsibilities

OTI Education Centers Responsibilities

OSHA DTE Responsibilities

• OSHA Jurisdiction

• Geographic Distribution

• Application Submission Requirements

• Selection Guidelines

• Selection Criteria

• Consortia and Partnerships

• Funding Provisions

• Cooperative Agreement Duration

• Proposal Conference

• Application Submission

• Application Deadline

• Application Evaluation and Selection Process

• Notification of Selection

• Freedom of Information Act

• Paperwork Reduction Act

• Transparency

• Notification of Non-Selection

• Non-Selection Appeal

• Appendix A—Current List of Required, Elective, and Short Courses

Background Information

Overview of the OSHA Directorate of Training and Education (DTE)

DTE, located in Arlington Heights, Illinois, supports the Agency's mission and performance goals of securing safe and healthy workplaces and increasing workers' voice in the workplace through the development and delivery of training courses and educational programs. The Directorate has three distinct functional areas: the OSHA Training Institute (OTI), the Office of Training Programs and Administration, and the Office of Training Educational Development. The Directorate provides training for federal and state compliance officers and state consultants. The Directorate administers three distinct external training programs including the OSHA Training Institute (OTI) Education Centers Program, the Outreach Training Program, and the Susan Harwood Training Grants Program. The Directorate also develops training and educational materials that support OTI courses and the Agency's compliance assistance initiatives.

Overview of the OSHA Training Institute (OTI)

OTI, located in Arlington Heights, Illinois, is OSHA's primary training provider. OTI conducts over 50 unique course offerings on an annual basis. Training includes job hazard recognition as well as OSHA standards, policies, and procedures for persons responsible for enforcing or directly supporting the Occupational Safety and Health Act of 1970. The OTI's primary responsibility is to federal and state compliance officers and state consultation program staff. The OTI Education Centers are the primary training providers for private and public sector personnel, and federal personnel from agencies other than OSHA.

Overview of OTI Education Centers Program

The OTI Education Centers are a national network of non-profit organizations authorized by OSHA to deliver occupational safety and health training to private and public sector workers, supervisors, and employers on behalf of OSHA. The OTI Education Centers Program was initiated in 1992 when OSHA began partnering with other training and educational institutions to conduct OSHA courses. The OTI Education Centers Program supports OSHA's training and education mission through a variety of safety and health programs.

OTI Education Center courses include OSHA standards and Outreach Training Program trainer and update courses. The OTI Education Centers offer more than 50 courses on various safety and health topics including recordkeeping, machine guarding, confined space, electrical standards, ergonomics, safety and health management, and fall protection. Information regarding the OTI Education Centers Program background, including a complete list of current organizations, OSHA numbered course offerings, and descriptions can be found on the OSHA Web site at: http://www.osha.gov/otiec.

OTI Education Centers are selected through a national competitive process and receive no funding from OSHA; they support their OSHA training through their normal tuition and fee structures. OTI Education Centers are located in all OSHA Regions and work closely with OSHA Regional and Area offices to meet the needs of the regional constituency. OTI Education Centers are encouraged to conduct courses at host site organizations in addition to their own facilities and are required to conduct courses in all states and U.S. territories within their Region. Host site organizations must be non-profit organizations. OTI Education Centers are responsible for authorizing Outreach trainers, processing Outreach trainer card requests, and conducting Outreach trainer monitoring activity for the OSHA Outreach Training Program.

Overview of the OSHA Outreach Training Program

The OSHA Outreach Training Program was established during the early years of the Agency to provide an overview of OSHA and to disseminate basic occupational safety and health workplace hazard information to workers using independent authorized trainers. Courses are intended to provide information on worker rights and employer responsibilities, and focus on work-related hazards. Outreach Training Program courses do not focus on or teach OSHA standards. Workers who complete the construction industry, general industry, maritime industry, or disaster site worker Outreach courses receive OSHA student course completion cards from the authorized trainer who conducted the training. OSHA Outreach Trainers are authorized exclusively through the OTI Education Centers. OTI Education Centers are responsible for administering the Outreach Training Program, including issuing course completion cards to authorized Outreach trainers and conducting monitoring activity such as record audits and training observations.

The Outreach Training Program is a voluntary program. OSHA recommends Outreach Training Program courses as an introduction to occupational safety and health hazard recognition for workers. Although a voluntary program, some cities and states have enacted laws mandating the training. In addition, some employers, unions, organizations, or other jurisdictions may also require this training. Please note that Outreach Training Program courses do not meet specific training requirements contained in OSHA standards. The OSHA Outreach Training Program requirements and procedures contain instructions and information for Outreach Trainers. Among the items addressed in the requirements and procedures are course topic requirements, minimum lengths for course topics, advertising restrictions, records retention, and reporting requirements. OSHA Outreach Training Program requirements and procedures are located at: http://www.osha.gov/dte/outreach/index.html.

Organizational Responsibilities

OTI Education Centers Responsibilities

OTI Education Centers are responsible for the following:

(1) Adhere to all OSHA/DTE program requirements, policies, and procedures.

(2) Develop and update course curriculum to support learning objectives determined by OSHA/DTE.

(3) Ensure instructors are qualified in the courses/subjects they will be teaching in accordance with OSHA instructor qualification policies.

(4) Meet annual program goals that include the following:

(a) Conduct a minimum number of courses per month and achieve annual student training goals and objectives as established by OSHA/DTE. Program goals are evaluated and revised on an annual basis. For the federal fiscal year 2017, each OTI Education Center is expected to train 1,700 students annually.

(b) Provide standard classroom instruction training throughout their Region and target underserved areas identified by OSHA/DTE.

(c) Conduct courses on a year-round basis with each required, elective, and short course being offered in accordance with annual program goals. Required, elective, and short courses are subject to change.

(5) Publicize and promote the availability of courses to ensure attendance and the delivery of the scheduled courses.

(6) Register students, provide course materials, and issue course completion certificates to students. This includes:

(a) Ensuring students have met all prerequisites prior to registration.

(b) Collecting and retaining student registration and attendance records in accordance with OSHA/DTE guidelines.

(7) Comply with reporting requirements as identified by OSHA/DTE. This includes:

(a) Providing OSHA/DTE with monthly training summary reports.

(b) Providing OSHA/DTE with training and instructor records for quarterly audits, semi-annual, and annual performance reporting.

(c) Collecting student surveys from students in accordance with OSHA procedures and providing that data to OSHA as requested.

(8) Administer Outreach Training Program activities. This includes:

(a) Distributing student cards to authorized Outreach Training Program trainers.

(b) Monitoring OSHA Outreach trainers including conducting record audits and training observations.

(c) Responding and processing exception requests in accordance with Outreach Training Program requirements.

(9) Attend the semiannual OSHA Training Institute Education Centers Directors' Meetings.

(10) Collaborate with other OTI Education Centers including mandatory participation on project teams and providing financial and personnel support for OTI Education Center marketing initiatives.

(11) Provide dedicated staff for the program management and administration.

OSHA DTE Responsibilities

DTE is responsible for the following:

(1) Develop program policies, procedures, and requirements.

(2) Provide answers and technical assistance on questions regarding OSHA policy and program requirements.

(3) Provide OTI Education Centers with learning objectives for courses to be presented.

(4) For select courses, provide curriculum and test questions.

(5) Coordinate the development of new OTI Education Center courses.

(6) Monitor the performance of the OTI Education Centers through on-site program visits, conference calls, training observations, and examination of course reports and attendance records.

(7) Coordinate the efforts of the OTI Education Center Program Executive Committee.

(8) Evaluate the effectiveness of the OTI Education Centers and provide each organization with an annual performance appraisal.

(9) Conduct investigations of alleged OTI Education Center non-compliance with the Non-Financial Cooperative Agreement and OSHA policies and procedures.

OSHA Jurisdiction

OSHA is a federal agency within the United States. The Agency covers workers and employers in the 50 United States and certain territories and jurisdictions under federal authority. Those jurisdictions include the District of Columbia, Puerto Rico, the Virgin Islands, American Samoa, Guam, Commonwealth of the Northern Mariana Islands, Wake Island, Johnston Island, and the Outer Continental Shelf Lands as defined in the Outer Continental Shelf Lands Act.

Geographic Distribution

There is currently at least one OTI Education Center in each OSHA Region. However, OSHA may elect to select more than one OTI Education Center in some or all OSHA Regions. The OSHA Regions contain the following states and U.S. territories.

Region I: Connecticut, Maine, Massachusetts, New Hampshire, Rhode Island, and Vermont.

Region II: New Jersey, New York, Puerto Rico, and Virgin Islands.

Region III: Delaware, District of Columbia, Maryland, Pennsylvania, Virginia, and West Virginia.

Region IV: Alabama, Florida, Georgia, Kentucky, Mississippi, North Carolina, South Carolina, and Tennessee.

Region V: Illinois, Indiana, Michigan, Minnesota, Ohio, and Wisconsin.

Region VI: Arkansas, Louisiana, New Mexico, Oklahoma, and Texas.

Region VII: Iowa, Kansas, Missouri, and Nebraska.

Region VIII: Colorado, Montana, North Dakota, South Dakota, Utah, and Wyoming.

Region IX: American Samoa, Arizona, California, Guam, Hawaii, Nevada, and Commonwealth of the Northern Mariana Islands.

Region X: Alaska, Idaho, Oregon, and Washington.

For this notice of competition, special consideration may be given to applicant organizations with physical locations in the following major metropolitan areas that may be underserved by existing OTI Education Centers (the list is in alpha order, not order of preference):

1. Austin-Round Rock, TX

2. Boston-Cambridge-Newton-Quincy, MA-NH

3. Charlotte-Gastonia-Concord, NC-SC

4. Cleveland-Elyria, OH

5. Columbus, OH

6. Hartford-West Hartford-East Hartford, CT

7. Houston-The Woodlands-Sugarland, TX

8. Indianapolis-Carmel-Anderson, IN

9. Jacksonville, FL

10. Las Vegas-Henderson-Paradise, NV

11. Louisville-Jefferson County, KY-IN

12. Memphis, TN-MS-AR

13. Miami-Fort Lauderdale-West Palm Beach, FL

14. Milwaukee-Waukesha-West Allis, WI

15. Minneapolis-St. Paul-Bloomington, MN-WI

16. New Orleans-Metairie, LA

17. Oklahoma City, OK

18. Orlando-Kissimmee-Sanford, FL

19. Phoenix-Mesa-Scottsdale, AZ

20. Pittsburgh, PA

21. Portland-Vancouver-Hillsboro, OR-WA

22. Providence-Warwick, RI-MA

23. Richmond, VA

24. Sacramento-Roseville-Arden Arcade, CA

25. Virginia Beach-Norfolk-Newport News, VA-NC

Application Submission Requirements

Submissions that are not in accordance with the application submission requirements listed below will not be considered. The application must include the following:

(1) Program Summary: The program summary is a one-to-two page double-spaced abstract that succinctly summarizes the applicant organization and any consortium partners' background, experience, and qualifications in occupational safety and health and training. The program summary must also provide:

(a) Contact information including the following:

• The name, address, and phone number of the lead organization and all consortium partners. A post office box will not be accepted.

• The name, title, address, telephone number, and email address of the program director who can answer questions regarding the application.

(b) Information on which OTI Education Center courses may be offered and any relevant language or target audience information.

(2) Program Narrative: The program narrative must be numbered and not exceed 30 double-spaced pages. Attachments will not be included in the page count.

(3) Applicant Eligibility: In order to be eligible, each organization must document the following. Organizations that do not address the following will not be given further consideration.

(a) Non-Profit Status: Include evidence of non-profit status of the lead organization and each member organization if applying as a consortium. A letter from the Internal Revenue Service, State, or a statement included in a recent audit report is preferred. In the absence of these, a copy of the articles of incorporation showing the non-profit status will be accepted.

(b) Authority to Apply: Provide a copy of the resolution by company president, Chief Executive Officer, Board of Directors, Board of Regents, or other governing body of the organization approving the submittal of an application to OSHA to become an OTI Education Center.

(c) Occupational Safety and Health Training Experience: Demonstrate previous experience delivering occupational safety and health training to adults.

(d) Status as a Training Organization: (This applies only to applicants that are not colleges or universities.) Document that training or education is a principal activity of the organization. Through audit reports, annual reports, or other documentation, the applicant must clearly demonstrate that for the last two calendar years more than 50 percent of the organization's funds have been used for training and education activities and more than 50 percent of staff resources have also been used for this purpose.

(e) Curriculum Development: Explain the organization's process for developing and updating occupational safety and health curriculum to meet learning objectives provided by OSHA.

(f) Training Facilities: Provide detail regarding classrooms, laboratories, and testing facilities available. The organization must have training facilities that are under their purview.

(g) Training Throughout the OSHA Region: Provide details regarding the organization's ability to provide standard in-person classroom training across the OSHA Region in which the organization is physically located. Training conducted through video-conferencing and webinars are not accepted as in-person classroom training.

(h) Nondiscrimination: Provide copies of the organization's nondiscrimination policies covering staff and students. In the absence of a written policy, explain how the organization will ensure that staff and students are selected without regard to race, color, religion, national origin, gender, age, or disability.

Selection Guidelines

OSHA does not have a predetermined number of organizations to be selected to act as authorized OTI Education Centers. The number of organizations selected will be determined on a competitive basis using the selection criteria contained in this announcement.

Selection Criteria

Applications that meet the factors listed in the “Applicant Eligibility” section above will be reviewed by a technical panel based on the criteria listed below.

(1) Organizational Commitment (10 Points)

(a) Explicit commitment of company president, Chief Executive Officer, Board of Directors, Board of Regents, or other governing body of the organization to fully utilize all available organizational resources necessary to support a large-scale occupational safety and health training program.

(b) To fully address this element, the proposal must:

(i) Include a signed Letter of Commitment from company president, Chief Executive Officer, Board of Directors, Board of Regents, or other governing body of the organization detailing how they will support the initial startup, the short-term viability and the long-term growth of an OTI Education Center.

(ii) Clearly state the metrics and outcomes your organization will use to formally evaluate and assess the success of an OTI Education Center program.

(2) Organizational Experience and Qualifications (20 Points)

(a) Experience delivering occupational safety and health training in the construction, general, and maritime industries.

(b) Experience training adults.

(c) Ability to deliver required, elective, and short OTI Education Center courses; (See Appendix A for a current list of required, elective and short OTI Education Center courses).

(d) Provision for a systematic process for developing and updating occupational safety and health curriculum to support learning objectives provided by OSHA.

(e) Resources for supporting a large-scale occupational safety and health training program, such as appropriate management, instructional staff, and administrative staff to fulfill all program requirements including marketing, registration, student training materials, instruction, reporting, and Outreach card administration.

(f) To fully address this element, the proposal must:

(i) Describe experience delivering occupational safety and health training including the number of classes offered, number of students taught in each class, and number of student contact hours for each course during the last three calendar years.

(ii) Include copies of catalogs and other marketing materials that provide descriptive material about occupational safety and health training courses.

(iii) Describe ability to deliver OTI Education Center courses including required, elective, and short courses. Please note the required, elective and short course offerings are subject to change. A current list of required, elective and short courses may be found at Appendix A. The complete list of courses and descriptions is available online at http://www.osha.gov/dte/edcenters/course_description.html.

(iv) Indicate the number of occupational safety and health courses for which your organization has developed curriculum, including the title and student contact hours for each course, within the last three calendar years.

(v) Indicate the number of instructor-led in-person classroom training occupational safety and health courses your organization has conducted, including title, student contact hours, and number of trainees within the last three calendar years.

(vi) Describe organization's process for evaluating course content as it relates to student learning outcomes and process for reviewing and updating curriculum and course materials.

(vii) Demonstrate that your organization is capable of providing in-person classroom training throughout the OSHA Region in which the lead organization and consortium partner(s) are physically located.

(3) Staff Experience and Qualifications (15 Points)

(a) Staff experience in delivering training courses to adults in occupational safety and health in construction, general industry, and maritime.

(b) Staff experience in occupational safety and health subjects including the application of OSHA standards to the recognition, avoidance, abatement, and prevention of workplace hazards.

(c) Professional certifications related to occupational safety and health held by staff such as such as Certified Safety Professional, Professional Engineer, or Certified Industrial Hygienist.

(d) Staff experience in managing and administering a training program including student registration and enrollment, student communications, course preparation, records maintenance, and marketing.

(e) To fully address this element, the proposal must:

(i) Include an organizational chart of the department responsible for training. Indicate number and titles of staff positions that will be dedicated to the OTI Education Center Program along with the expected annual number of man-hours that will be allocated to the Program.

(ii) Describe staff knowledge of and experience with OSHA standards and their application to hazard recognition and hazard abatement.

(iii) Describe organization's process for evaluating instructors' effectiveness in the classroom. Provide copies of evaluation measures, checklists, and forms used to evaluate instructors.

(iv) Include resumes for instructors responsible for conducting OSHA courses and current staff. Provide position descriptions for positions to be filled.

(4) Location and Training Facilities (10 Points)

(a) Ability to conduct standard classroom instruction training in multiple locations within the OSHA Region.

(b) Classroom facilities available for presentation of the courses, including room capacity, availability of audiovisual equipment, and appropriate laboratories and other facilities available for hands-on exercises.

(c) Availability of testing center, evaluation center, or comparable facility.

(d) Provisions for accessibility for persons with disabilities.

(e) Accessibility of the training facility to population centers, including such factors as distance from a major airport, transportation from the airport to hotels, and distance from the interstate system.

(f) Availability and affordability of lodging and accommodations, food service, and restaurants available both in the area in which the classes will be held and in the area where the hotels are located. Lodging rates are based on GSA per diem rates located at https://www.gsa.gov/perdiem.

(g) Availability of local transportation, including how students will be transported between the hotels and classes using hotel shuttles, public transportation, or other means.

(h) To fully address this element, the proposal must:

(i) Describe the accessibility of the training facility for students within local commuting area.

(ii) Clearly identify that your organization has classrooms, laboratories, and testing facilities available. Training facilities must be under the direct control of the applicant. Floor plans are encouraged and may be included as an attachment.

(iii) Include such items as distance from a major airport, number of airlines serving the airport, transportation from the airport to hotels, and distance from the interstate system.

(iv) Provide a representative listing of hotels available for student accommodation and give sample room rates. Explain how students will be transported between the hotels and classes. Describe the food service and restaurants available both in the area in which the classes will be held and in the area where the hotels are located.

(v) Describe the organization's ability and plan to provide off-site host-site training within their respective Region including procedures to assure that classroom facilities and accommodations are adequate. Off-site training includes the ability to conduct courses at sites other than your own facility and in other states and U.S. territories within your OSHA region. Host-site training organizations must be non-profit organizations and proof of non-profit status is required.

(5) Marketing (15 Points)

(a) Experience in marketing training to adults.

(b) Ability to effectively market occupational safety and health training programs.

(c) Utilization of various media to support marketing efforts.

(d) Ability to solicit and deliver training on a contract basis.

(e) Resources sufficient to support participation in national industry conferences in order to market training programs.

(f) To fully address this element, the proposal must:

(i) Explain the procedures for marketing your organization's training courses and recruiting adult learners.

(ii) Include examples of current course marketing materials such as catalogs, flyers, brochures, emails, Web site urls and screen shots, postcards, use of social media, and any other associated relevant materials.

(iii) Explain how your organization will promote its status as an OTI Education Center.

(iv) Describe your organization's experience in exhibiting at conferences and trade shows.

(6) Administrative Capabilities (20 Points)

(a) Ability to administer a large-scale occupational safety and health training program, including clerical and support staff, and customer service capabilities, to fulfill all program requirements and meet customer needs.

(b) Ability to administer the Outreach Training Program, including processing card requests for Outreach trainers and conducting Outreach monitoring activities such as record audits and training observations.

(c) Ability to compile and submit reports and other training data.

(d) Applicants must be capable of providing mandatory reports consistent with current OSHA requirements, including the capability to submit reports in Excel format on a template provided by OSHA/DTE. Please note, OSHA periodically revises reporting requirements.

(e) Ability to respond to inquiries from OSHA and the public.

(f) Ability to manage student records.

(g) To fully address this element, the proposal must:

(i) Describe registration procedures including provisions for course cancellation, furnishing students with course materials, verifying course prerequisites are met in advance of registration, and tuition or fee collection processes.

(ii) Describe capabilities to process and issue course completion documents to students and collect related fees.

(iii) Describe personnel and resources available to conduct Outreach monitoring activities, including record audits and training observations.

(iv) Include information about organization's record retention policy, ability to issue replacement course completion documents, and collect related fees. Please note OSHA requires records to be maintained for a minimum of five years. OTI Education Centers may establish a longer retention policy.

(v) Explain what procedures will be implemented for reporting to OSHA/DTE.

(vi) Provide specific details regarding the organization's full-time customer service staff, capabilities, and/or planned approach for responding to questions from students; handling questions and concerns related to occupational safety and health; resolving problems associated with a course, whether received via student satisfaction surveys or direct communication from a student; and issuing replacement course completion certificates in a timely manner, including verification of student identity and training completion.

(vii) Provide a copy of the organization's tuition and fee schedule; explain how tuition or fees will be computed for each OTI Education Center numbered course, referencing the organization's tuition and fee schedule; and describe tuition and fee procedures including provisions for the collection of tuition, cancellation fees, and issuing refunds.

(7) Evaluation (10 Points)

OSHA utilizes Kirkpatrick's Levels of Evaluation as described below. Each OTI Education Center is responsible for collecting and submitting student surveys.

Satisfaction Survey (Level I Evaluation) to Measure Reaction: Each student must receive a satisfaction survey to assess the students' reactions and perceptions of the quality of the training.

Testing (Level II Evaluation) to Measure Learning: Learning assessments measure the skills and knowledge that the trainee retains as a result of the training. Testing is mandatory at the end of many courses.

Follow-up Impact Survey (Level III Evaluation) to Measure Results: Each applicant must have the capability of issuing a follow-up impact survey to assess the effectiveness of the training after an elapsed time period (e.g., 6-months) using survey questions provided by OSHA.

(a) Ability to administer student surveys in a classroom setting.

(b) Ability to administer exams and ensure test integrity.

(c) Ability to assess the effectiveness of the training after an elapsed time period using a follow-up impact survey.

(d) Ability to summarize and report evaluation results.

(e) To fully address this element, the proposal must:

(i) Describe the organization's experience in conducting evaluation of training programs.

(ii) Describe organization's experience in administering student surveys. Provide examples of student surveys presently in use.

(iii) Describe organization's experience in administering classroom exams and the process for ensuring test integrity.

(iv) Describe organization's experience conducting follow-up evaluations that measure behavior and/or results.

Consortia and Partnerships

Applicants may join with one or more other non-profit organizations in their Region to apply as a consortium. A training or education institution may elect to apply for this program in partnership with a safety and health organization that is not primarily a training organization. For example, a university could enter into an agreement with a labor union that provides for the use of university classrooms and faculty supplemented by union safety and health professionals. All consortium partners must be physically located in the same OSHA region. Partners must designate a lead organization that will be responsible for program reporting and Outreach Training Program administration including Outreach card distribution.

Funding Provisions

OSHA provides no funding to OTI Education Centers. OTI Education Centers Program participants are expected to support their training through their normal tuition and fee structures.

Cooperative Agreement Duration

Selected applicants will sign five-year non-financial cooperative agreements with OSHA. Such an agreement may be renewed without additional competition for just one additional five-year period, provided that: (1) OSHA found the OTI Education Center's performance during the cooperative agreement to be satisfactory; and (2) the OTI Education Center has not altered its existing membership of constituent organizations (i.e., the member organizations that comprise its consortium).

The agency reserves the right to revoke the authorization of an OTI Education Center. Either party may terminate the cooperative agreement with advance written notice, provided both parties continue to meet all obligations of the agreement for the duration of the advance notice period.

Proposal Conference

A proposal conference will be held to provide potential applicants with information about the OTI Education Centers Program. The conference will also clarify OSHA expectations for OTI Education Centers, courses and methods of instruction, as well as administrative and program requirements for OTI Education Centers and the OSHA Outreach Training Program. Attendance at the proposal conference is not mandatory, but applicants are strongly encouraged to attend.

The proposal conference is scheduled for May 17, 2017, at the OSHA Directorate of Training and Education, 2020 S. Arlington Heights Rd., Arlington Heights, Illinois 60005-4102.

It is required for all attendees to register for this proposal conference. Applicants interested in attending this conference must register through the following link: https://reg.abcsignup.com/reg/event_page.aspx?ek=0019-0016-075F22DDCF7C46E18441F0ACF45847A0. Required registration information includes:

(1) Name and street address of the organization;

(2) Name, title, telephone number, and email address of the attendees

Registration information must be submitted no later than June 30, 2017.

Application Submission

Applications must be submitted to the attention of James Brock, Program Manager, Office of Training Programs and Administration, OSHA Directorate of Training and Education, 2020 S. Arlington Heights Rd., Arlington Heights, Illinois 60005-4102.

The submission is to consist of three copies of the application. Applications may be bound. The program narrative must not exceed 30 double-spaced pages. Attachments will not be included in the page count. Applications must be double-spaced, in 12-point font, with all pages numbered, including attachments. Attachments must only include essential documents that are relevant to this program.

Application Deadline

Applications must be received by the OSHA Directorate of Training and Education no later than 4:30 p.m., Central Time, on June 30, 2017. Requests for extension to this application deadline will not be granted.

Application Evaluation and Selection Process

Applications will be reviewed by technical panels comprised of OSHA staff. The technical panels will review applications based on criteria listed in this notice to determine which applicants best meet the stated requirements. As part of the evaluation and selection process, OSHA may request additional information from applicants. This may include written requests for clarification, phone or in-person interviews, access to existing programs, and on-site visits of applicant facilities. OSHA will attempt to select qualified applicants who have the ability to provide training throughout their region based on program needs. The panels' recommendations to the Assistant Secretary are advisory in nature. The final decision will be made by the Assistant Secretary of Labor for Occupational Safety and Health.

Notification of Selection

Applicants will be notified by a representative of the Assistant Secretary of Labor for Occupational Safety and Health if their organization is selected as an OSHA Training Institute Education Center. Applicants selected to be OSHA Training Institute Education Centers must attend a mandatory orientation meeting at the Directorate of Training and Education in Arlington Heights, Illinois at a time and date to be provided after selection.

An organization may not deliver OSHA Training Institute Education Center courses until the program has been authorized, the organization has signed a non-financial cooperative agreement with OSHA, and the organization has participated in the orientation meeting.

Freedom of Information Act

Information submitted in the respondent's application is not considered confidential. Organization's application data may be releasable under the Freedom of Information Act.

Paperwork Reduction Act

Interested parties must submit an application as discussed under section “Application Submission Requirements.” According to the Paperwork Reduction Act, an Agency may not conduct or sponsor, and no persons are required to respond to, a collection of information unless such collection displays a valid OMB control number. The application provides to OSHA basic information about the applicant organization and application. Information will be used to evaluate the qualifications of the applicants, and their ability to serve the regional population and to determine ability to conduct OSHA courses for private sector personnel and federal personnel from agencies other than OSHA; and, to evaluate the applicant organization's competence to provide the proposed training (including the qualifications of the personnel to manage and implement the training). OSHA estimates employer burden for the completion of this application is sixty hours per application. These estimates include the time for reviewing instructions, searching existing data sources, gathering and maintaining the data needed, and, completing and reviewing the collection of information.

The application was previously reviewed and approved for use by the Office of Management and Budget (OMB) under the provisions of the Paperwork Reduction Act of 1995 (Pub. L. 104-13). The assigned OMB control number is 1218-0262.

Transparency

The Department of Labor is committed to conducting a transparent selection process and publicizing information about program outcomes. Applications or abstracts may be posted on public Web sites as a means of promoting and sharing innovative ideas.

Notification of Non-Selection

Applicants will be notified in writing if their organization is not selected to be an OSHA Training Institute Education Center.

Non-Selection Appeal

All decisions by the Assistant Secretary of Labor for Occupational Safety and Health are final. The Department of Labor does not provide an appeal procedure for applicants that are not selected.

Authority and Signature

Section 21 of the Occupational Safety and Health Act of 1970 (29 U.S.C. 670)

Signed at Washington, DC, on April 24, 2017.
Dorothy Dougherty,
Deputy Assistant Secretary of Labor for Occupational Safety and Health.

Appendix A—Current List of Required, Elective and Short Courses ¹

¹ Subject to change based on Agency initiatives, yearly annual performance criteria and national emphasis programs.

(1) Present OTI Courses:

(a) FY 2017 rating criterion is 95 courses conducted annually with a minimum of four in-person courses per month.

(b) Present all OTI Courses as follows:

(i) OTI Education Centers are required to present the following ten courses annually:

(1) #500 Trainer Course in Occupational Safety and Health Standards for the Construction Industry

(2) #501 Trainer Course in Occupational Safety and Health Standards for General Industry

(3) #502 Update for Construction Industry Outreach Trainers

(4) #503 Update for General Industry Outreach Trainers

(5) #510 Occupational Safety and Health Standards for the Construction Industry

(6) #511 Occupational Safety and Health Standards for General Industry

(7) #3095 Electrical Standards

(8) #3115 Fall Protection

(9) #7500 Introduction to Safety and Health Management

(10) #7845 Recordkeeping Rule Seminar

(ii) OTI Education Centers are required to present at least five of the following elective courses annually:

(1) #521 OSHA Guide to Industrial Hygiene

(2) #2015 Hazardous Materials

(3) #2045 Machinery and Machine Guarding Standards

(4) #2055 Cranes in Construction

(5) #2225 Respiratory Protection

(6) #2255 Principles of Ergonomics

(7) #2264 Permit-Required Confined Space Entry

(8) #3015 Excavation, Trenching, and Soil Mechanics

(9) #3085 Principles of Scaffolding

(10) #5029 Cal/OSHA Update for Construction Industry Outreach Trainers

(11) #5039 Cal/OSHA Update for General Industry Outreach Trainers

(12) #5109 Cal/OSHA Standards for the Construction Industry

(13) #5119 Cal/OSHA Standards for General Industry

(14) #5400 Trainer Course in Occupational Safety and Health for the Maritime Industry

(15) #5402 Update for Maritime Industry Outreach Trainers

(16) #5410 Occupational Safety and Health Standards for the Maritime Industry

(17) #5600 Disaster Site Worker Trainer Course

(18) #5602 Update for Disaster Site Worker Trainers

(19) #5810 Hazard Recognition and Standards for On Shore Oil and Gas Exploration and Production

(20) #6000 Collateral Duty Course for Other Federal Agencies

(21) #6010 Occupational Safety and Health Course for Other Federal Agencies

(iii) OTI Education Centers are required to present at least three of the following short courses annually:

(1) #7000 OSHA Training Guidelines for Safe Patient Handling

(2) #7005 Public Warehousing and Storage

(3) #7100 Introduction to Machinery and Machine Safeguarding

(4) #7105 Introduction to Evacuation and Emergency Planning

(5) #7110 Introduction to Safe Bolting: Principles and Practices

(6) #7115 Lockout/Tagout

(7) #7120 Introduction to Combustible Dust Hazards

(8) #7125 Seminar on Combustible Dust Hazards

(9) #7200 Bloodborne Pathogen Exposure Control for Healthcare Facilities

(10) #7205 Health Hazard Awareness

(11) #7210 Pandemic Influenza Workplace Preparedness

(12) #7225 Transitioning to Safer Chemicals

(13) #7300 Understanding OSHA's Permit-Required Confined Space Standard

(14) #7400 Noise in the Construction Industry

(15) #7405 Fall Hazard Awareness for the Construction Industry

(16) #7410 Managing Excavation Hazards

(17) #7415 OSHA Construction Industry Requirements (Major Hazards and Prevention Strategies)

(18) #7505 Introduction to Incident (Accident) Investigation

(19) #7510 Introduction to OSHA for Small Business

[FR Doc. 2017-08686 Filed 4-28-17; 8:45 am]

BILLING CODE 4510-26-P